Title 3—

The President

Proclamation 10602 of July 25, 2023

Establishment of the Emmett Till and Mamie Till-Mobley National Monument

By the President of the United States of America

A Proclamation

The brutal lynching of Emmett Till in Mississippi in 1955 and the subsequent courage of his mother, Mamie Till-Mobley, to ensure his death would not be in vain helped bring broad national attention to the injustices and inequality that Black people experienced during the Jim Crow era across the United States and, in particular, the South. The story—one that is shaped by the fight for civil rights and the historic movement called the Great Migration, during which millions of Black people moved out of the South—is rooted in the specific places where Emmett Till lived and traveled in his too-short life: Chicago, where Mamie Till-Mobley came with her family for better opportunities and then mourned her son at the Roberts Temple Church of God in Christ; and the Mississippi Delta, where Emmett Till was murdered in an act of racial violence while visiting relatives, where the recovery of his body is memorialized at Graball Landing, and where his assailants were wrongfully acquitted at the Tallahatchie County Second District Courthouse. These places contain historic objects that illuminate the complicated fabric of our Nation and the injustice and inequality that Black people continue to experience today. They are places where we can learn about and reflect on the specific, painful events that ended Emmett Till's life and the larger history of Black oppression, resistance, and resilience, which ultimately culminated in a movement that bent our Nation's laws toward justice.

The Roberts Temple Church of God in Christ, the Tallahatchie County Second District Courthouse, Graball Landing, and the objects located at those sites have historic importance that arises from the roles that Emmett Till and Mamie Till-Mobley played in the birth and early evolution of the Civil Rights Movement. Mamie Till-Mobley was born Mamie Elizabeth Carthan near Webb, Mississippi, in 1921. When Mamie was 2 years old, her family moved to the suburb of Summit on the southwest side of Chicago, Illinois, where her father found work at the Argo Corn Products Refining Company.

The Carthan family was one of many Black families who left rural southern States and moved to urban industrial centers in northern, midwestern, and western States to escape racial violence and to pursue greater economic and educational opportunities.

On July 25, 1941, Mamie gave birth to Emmett Louis Till at Cook County Hospital in Chicago. She raised Emmett among his grandparents and extended family who lived nearby.

In August 1955, when Emmett was 14 years old and on summer break from school, he convinced his mother to let him visit their extended family who lived in the Mississippi Delta. Along with his granduncle Moses Wright and 16-year-old cousin Wheeler Parker, Jr., Emmett boarded Illinois Central's City of New Orleans train for the nearly 12-hour ride to Mississippi. Moses Wright's oldest son, 16-year-old Maurice, met the trio at the station in Grenada, Mississippi, and they made the last 30 miles of the journey in the family's pickup truck to stay at the Wrights' home outside rural Money, Mississippi.

On the evening of Wednesday, August 24, 1955, Emmett joined his cousins—Maurice Wright, Wheeler Parker, Jr., and 12-year-old Simeon Wright—and several of their friends to buy candy at Bryant's Grocery and Meat Market country store in Money.

Carolyn Bryant, the white store clerk, claimed Emmett made inappropriate advances toward her—a claim disputed by Emmett's cousins and friends. According to Till's cousin Wheeler Parker, Jr., 14-year-old Emmett whistled at Bryant outside the store, which violated the unwritten laws of segregated society in the Mississippi Delta. The group quickly loaded back into their vehicle and fled.

At about 2:00 a.m. on Sunday, August 28, 1955, the Wright family was awakened by two armed white men, identified by Moses Wright as store owner Roy Bryant, husband of Carolyn Bryant, and his half-brother, J.W. Milam. Moses Wright testified that the two men were armed with a gun and a flashlight and were looking for the “boy that done the talking down at Money.” The two white men directed Emmett Till to get dressed, abducted him from the Wright home, and drove away with him. Moses Wright notified the county sheriff. Within 48 hours after the abduction, J.W. Milam and Roy Bryant were arrested on kidnapping charges, and the news of Emmett Till's abduction began to hit newspapers locally and in Chicago.

On Wednesday, August 31, 1955, Emmett Till's body was pulled from the Tallahatchie River near Graball Landing in Tallahatchie County. Moses Wright confirmed that the badly beaten body was that of his grandnephew, Emmett Till.

Emmett Till suffered a brutal murder. His body was found with barbed wire tied around his neck and attached to a 70-pound cotton gin fan. A 2005 autopsy, prompted by the reopening of the investigation by the Federal Bureau of Investigation, revealed fractures of both of Emmett's wrists, a fracture of his left femur, multiple fractures of his skull, and a gunshot wound to the head.

Almost immediately after Emmett's badly beaten body was recovered, the county sheriff directed that he be buried quickly. His body was prepared at the Tutwiler Funeral Home and a grave was being dug at the local Church of God in Christ cemetery in Money when Mamie Till-Mobley contacted her Mississippi family, interrupting the burial process and insisting that her son's body be returned to Chicago.

Mamie Till-Mobley met her son's body at the train station in Chicago and confirmed his identity. Defying orders from the Tutwiler Funeral Home to keep the casket sealed, Mamie Till-Mobley decided to hold an open-casket funeral. When the funeral director asked if he should retouch Emmett's distorted face to make him more presentable, Mamie Till-Mobley responded, “Let the world see what I've seen.”

The funeral service for Emmett Till began Saturday, September 3, 1955, at the Roberts Temple Church of God in Christ in Bronzeville, a historically Black neighborhood on Chicago's South Side. The church was the first that Mamie Till-Mobley's mother attended when she moved to Chicago, and it formed a central part of the family's life and community. Roberts Temple played a prominent role in Chicago's Black community: it was considered the “Mother Church” in Northern Illinois for the influential Church of God in Christ denomination and served as a hub for social, spiritual, and economic activities. The church grew considerably during the Great Migration.

When Mamie Till-Mobley arrived at the funeral service, the church's 1,800 seats were overflowing, and an estimated 5,000 additional mourners gathered along the adjacent sidewalks, streets, church property, and surrounding blocks. Due to the overwhelming turnout, Mamie delayed Emmett's burial to allow more time for mourners to pay their respects. Press estimates of the crowd ranged from 10,000 on the first day to as many as 125,000 people over the 3 days before Emmett's burial on Tuesday, September 6, 1955. Today, the Roberts Temple Church of God in Christ still stands as a prominent feature on State Street, as it did in 1955.

The trial for the murder of Emmett Till began just weeks after his lynching, on September 19, 1955, at the Tallahatchie County Second District Courthouse in Sumner, Mississippi. Between 50 and 70 reporters attended, representing southern newspapers such as the Greenville Delta Democrat-Times and the Charleston Mississippi Sun, as well as national media including the New York Times, Newsweek, and the Nation. The segregated courtroom, which has been painstakingly restored to its appearance during the trial, required Black reporters to sit behind a railing and at a table separate from white reporters. Photos from the period show a packed courtroom with a crowd gathering outside open windows to hear the trial. The New York Times described “an atmosphere of controlled hostility” in the stifling heat of the 250-person courtroom. One night during the trial, a cross was burned in front of the hotel where the jurors were sequestered.

Throughout the trial, the town of Mound Bayou, located more than 30 miles and 2 counties away from the courthouse, served as a safe haven for Mamie Till-Mobley, Black reporters, and members of the NAACP who arrived in Mississippi. The State of Mississippi was segregated, including Mound Bayou, which was an all-Black town founded in 1887 by and for Black people. Hosting Mamie Till-Mobley and the NAACP at his home in Mound Bayou, Dr. T.R.M. Howard provided tight security with a checkpoint and round-the-clock guards to protect the trial attendees. On September 23, 1955, after a 5-day trial, an all-white jury acquitted Roy Bryant and J.W. Milam of Emmett Till's murder after just over an hour of deliberation.

In January 1956, following their acquittal, Bryant and Milam gave a paid interview to Look magazine in which they confessed to the murder, further underscoring the miscarriage of justice. Eyewitness accounts that additional people were involved in the kidnapping, torture, and murder of Emmett Till were omitted from the magazine article and never pursued by officials.

The Graball Landing river site, located just outside Glendora, Mississippi, is the area along the Tallahatchie River where many believe Emmett Till's body was recovered, although changes in river flows and erosion since 1955 make it difficult to determine the site with precision. Located where the Black Bayou meets the Tallahatchie River, Graball Landing is a natural break in the vegetation along the riverbank that served as a steamboat landing until 1894 and thereafter as a local fishing site. In the years that followed Emmett Till's murder, Graball Landing became the site of a community-led memorial. In 2008, the Emmett Till Memorial Commission erected a memorial sign at Graball Landing. Within 6 months, the sign was torn down by vandals and thrown into the river. When a replacement memorial sign was erected, it was not long until the sign was riddled with bullet holes. A third memorial sign was dedicated in 2018, and about a month later, it too was scarred by gunfire. The current memorial sign at Graball Landing was dedicated on October 19, 2019—it is over an inch thick, weighs more than 500 pounds, and is bulletproof.

Emmett Till's torture and killing was one of at least three other racially motivated murders in Mississippi during the summer of 1955. Emmett was also among the thousands of Black people killed by lynching in the United States over the 100 years following the Civil War. If Emmett Till had been buried in Mississippi, his story might have been entombed along with him. His mother's acts of resistance and bravery in demanding her son's body be returned to Chicago and in holding an open-casket service helped ensure Emmett's death was not a statistic, but a spark to galvanize the Civil Rights Movement in America. Months afterward, in December 1955, Rosa Parks refused to surrender her bus seat to a white man. She later explained, “I thought of Emmett Till and I couldn't go back.”

The Reverend Dr. Martin Luther King, Jr., too, would cite Emmett Till in his sermons. He later recollected: “Emmett Till, a mere boy, unqualified to vote, but seemingly used as a victim to terrorize Negro citizens and keep them from the polls. While the blame for the grisly mutilation of Till has been placed upon two cruel men, the ultimate responsibility for this and other tragic events must rest with the American people themselves. It rests with all of us, black and white, who call ourselves civilized men. For democracy demands responsibility, courage, and the will-to-freedom from all men.”

For the remainder of her life, well into her 80s, Mamie Till-Mobley furthered the memory of her son Emmett through her work as an educator and activist, carrying a message of healing, reconciliation, forgiveness, and hope.

Conserving the Roberts Temple Church of God in Christ, the Tallahatchie County Second District Courthouse, and Graball Landing will ensure that the historical value of these sites will remain for the benefit of all Americans, providing opportunities to learn about Emmett Till's life and death and the historical and cultural context interwoven with his story. Conserving these places and the resources they contain will also honor the bravery of Mamie Till-Mobley and other Americans like her who, in the face of unimaginable injustice, have helped lead us toward a more equal and perfect Union.

WHEREAS, section 320301 of title 54, United States Code (the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, Graball Landing has long been recognized as the location where Emmett Till's body was recovered from the Tallahatchie River and, more recently, as a memorial site to inform and educate the public about Emmett Till's murder; and

WHEREAS, the memorial signs placed at Graball Landing to inform the public about Emmett Till's murder have their own important role in civil rights history, including through their repeated defacement and replacement, and thus are themselves significant cultural and historic objects; and

WHEREAS, the Roberts Temple Church of God in Christ marks the location of a historic event when tens of thousands of people came together, overflowing from the church into the surrounding sidewalks and streets, to mourn the murder of a 14-year-old boy and honor the strength of his mother and, in recognition of this, the church was designated as a Chicago Landmark by the City of Chicago Commission on Chicago Landmarks on March 29, 2006; and

WHEREAS, the Tallahatchie County Second District Courthouse is nationally significant based on its association with the history of Jim Crow, the dawn of the Civil Rights Movement, and the site of the Emmett Till murder trial in September 1955; and was designated as a Mississippi Landmark on February 28, 1990, and added to the National Register of Historic Places on March 6, 2007; and

WHEREAS, James Walker Sturdivant has donated to the Federal Government for the purpose of establishing a unit of the National Park System fee interest in approximately 4.31 acres of land in the area known as Graball Landing adjacent to the Tallahatchie River; and

WHEREAS, the Roberts Temple Church of God in Christ, with the support of the National Trust for Historic Preservation, has donated to the Federal Government for the purpose of establishing a unit of the National Park System a Conservation Easement consisting of approximately 0.27 acres over 2 parcels, which includes the historic Roberts Temple Church of God in Christ (Church Building); a Preservation and Use Easement consisting of a lot of approximately 0.09 acres over the property immediately adjacent to the Church Building; and fee interest in approximately 0.55 acres of land currently used as the church parking lot—all of which encompass land where crowds gathered in September 1955; and

WHEREAS, Tallahatchie County has donated to the National Park Foundation fee interest in the Tallahatchie County Second District Courthouse and the associated Emmett Till Interpretive Center building across the street, totaling approximately 0.48 acres; and

WHEREAS, the National Park Foundation has relinquished and conveyed all of these lands and interests in lands associated with the Tallahatchie County Second District Courthouse and the Emmett Till Interpretive Center building to the Federal Government for the purpose of establishing a unit of the National Park System; and

WHEREAS, the designation of a national monument to be administered by the National Park Service would recognize the historic significance of the Roberts Temple Church of God in Christ, the Tallahatchie County Second District Courthouse, and Graball Landing, particularly the events that transpired at these locations related to the life and death of Emmett Till, his mother Mamie Till-Mobley, and the Civil Rights Movement, and would provide a national platform for preserving and interpreting this important history; and

WHEREAS, it is in the public interest to preserve and protect the objects of historic interest associated with the story of Emmett Till and Mamie Till-Mobley and the birth of the American Civil Rights Movement in Illinois and Mississippi;

NOW, THEREFORE, I, JOSEPH R. BIDEN JR., President of the United States of America, by the authority vested in me by section 320301 of title 54, United States Code, hereby proclaim, set apart, and reserve as the Emmett Till and Mamie Till-Mobley National Monument (monument), the objects identified above and all lands and interests in lands owned or controlled by the Government of the United States within the boundaries described on the accompanying maps entitled “Emmett Till and Mamie Till-Mobley National Monument Boundary,” which are attached to and form a part of this proclamation, for the purpose of protecting those objects. The reserved Federal lands and interests in lands within the monument's boundaries encompass approximately 5.7 acres, which is the smallest area compatible with the proper care and management of the objects to be protected.

All Federal lands and interests in lands within the boundaries of this monument are hereby appropriated and withdrawn from all forms of entry, location, selection, sale, leasing, or other disposition under the public land laws, including withdrawal from location, entry, and patent under the mining laws, and from disposition under all laws relating to mineral and geothermal leasing. The establishment of this monument is subject to valid existing rights, including the July 21, 2023, deed for parcel 20-03-106-036 in Chicago with reserved rights for parking. Lands and interests in lands within the monument's boundaries not owned or controlled by the United States shall be reserved as part of the monument, and objects identified above that are situated upon those lands and interests in lands shall be part of the monument, upon acquisition of ownership or control by the United States.

The Secretary of the Interior shall manage the monument through the National Park Service, pursuant to applicable legal authorities and consistent with the purposes and provisions of this proclamation. For the purpose of preserving, interpreting, and enhancing the public understanding and appreciation of the monument, the Secretary of the Interior, through the National Park Service, shall prepare a management plan for the monument. The management plan shall ensure that the monument fulfills the following purposes for the benefit of present and future generations: (1) to preserve the historic and cultural resources within the boundaries of the monument; (2) to interpret the story of Emmett Till and Mamie Till-Mobley and its significance to the fight against racism and the dismantling of Jim Crow; and (3) to commemorate the birth of the Civil Rights Movement. The National Park Service shall develop the management plan in consultation with local communities, organizations, and the general public in the regions of the monument to set forth the desired relationship of the monument to and support for other sites evaluated in the Mississippi Civil Rights Special Resources Study such as the Glendora Cotton Gin (currently known as the Emmett Till Historic Intrepid Center), Mound Bayou, and the Tutwiler Funeral Home, as well as sites in Chicago such as the Emmett Till Boyhood Home.

The National Park Service shall consult with appropriate Federal, State, and local agencies and nongovernmental organizations in planning for interpretation and visitor access and services at the monument.

The National Park Service is directed, as appropriate, to use applicable authorities to seek to enter into agreements with other entities to address common interests and promote management efficiencies, including the provision of visitor services, interpretation and education, establishment and care of museum collections, and preservation of historic objects. These entities may include, in Illinois, the Roberts Temple Church of God in Christ, the Bronzeville-Black Metropolis National Heritage Area, and the Emmett Till and Mamie Till-Mobley Institute; and, in Mississippi, the Emmett Till Historic Intrepid Center, the County of Tallahatchie, the Mississippi Delta National Heritage Area, and the Emmett Till Interpretive Center.

Nothing in this proclamation shall be deemed to revoke any existing withdrawal, reservation, or appropriation; however, the monument shall be the dominant reservation.

Warning is hereby given to all unauthorized persons not to appropriate, injure, destroy, or remove any feature of this monument and not to locate or settle upon any of the lands thereof.

IN WITNESS WHEREOF, I have hereunto set my hand this twenty-fifth day of July, in the year of our Lord two thousand twenty-three, and of the Independence of the United States of America the two hundred and forty-eighth.

Billing code 3395-F3-P

[FR Doc. 2023-16211

Filed 7-27-23; 8:45 am]

Billing code 4310-10-C